DEPARTMENT OF TRANSPORTATION

Federal Aviation Administration

Notice of Passenger Facility Charge Approvals and Disapprovals

AGENCY: Federal Aviation Administration (FAA), DOT.

ACTION: Monthly notice of Passenger Facility Charge (PFC) approvals and disapprovals. In March 2013, there were three applications approved. This notice also includes information on two applications, one approved in January 2013 and the other approved in February 2013, inadvertently left off the January 2013 and February 2013 notices, respectively. Additionally, three approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: Hattiesburg-Laurel Regional Airport Authority, Moselle, Mississippi.

Kevin APPLICATION NUMBER: 13-07-C-00-PIB.

APPLICATION TYPE: Impose and use a PFC.

PFC LEVEL: $4.50.

TOTAL PFC REVENUE APPROVED IN THIS DECISION: $172,569.

EARLIEST CHARGE EFFECTIVE DATE: May 1, 2013.

ESTIMATED CHARGE EXPIRATION DATE: August 1, 2015.

CLASS OF AIR CARRIERS NOT REQUIRED TO COLLECT PFC'S:

None.

BRIEF DESCRIPTION OF PROJECTS APPROVED FOR COLLECTION AND USE:

Security fence rehabilitation.

Seal coat runway/taxiway overlay/blast pad.

Directional sign installation and replacement.

Taxiway B extension/completion.

Extend terminal building.

Rehabilitate aircraft rescue and firefighting fire station.

Wildlife hazard assessment and plan.

Security vehicle(s)—two.

Emergency access road—phases 1 through 4.

Terminal floor rehabilitation.

Sewage treatment plant loan payoff.

Airfield sign panel replacement.

Fence modification.

Obstruction removal.

Airfield lighting and surface rehabilitation.

Parking and entrance improvements.

Runway/taxiway/apron markings.

Aircraft rescue and firefighting vehicle.

Terminal access road overlay.

Move precision approach path indicator controls.

Rehabilitate terminal heating, ventilation and air conditioning system.

Access control system upgrade.

BRIEF DESCRIPTION OF DISAPPROVED PROJECTS:

Digital video recorder upgrade.

Fuel efficient off-road vehicle.

DETERMINATION: Disapproved. Each project was determined to not meet the requirements of § 158.15(b).

BRIEF DESCRIPTION OF WITHDRAWN PROJECTS:

Expand terminal apron.

Expand and construct additional terminal parking lot.

Disadvantaged Business Enterprise plan.

Date of Withdrawal: January 23, 2013.

DECISION DATE: January 24, 2013.

FOR FURTHER INFORMATION CONTACT: Jonathan Linquist, Jackson Airports District Office, (601) 664-9893.

PUBLIC AGENCY: Shenandoah Valley Regional Airport Commission, Weyers Cave, Virginia.

APPLICATION NUMBER: 13-03-C-00-SHD.

APPLICATION TYPE: Impose and use a PFC.

PFC LEVEL: $4.50.

TOTAL PFC REVENUE APPROVED IN THIS DECISION: $310,554.

EARLIEST CHARGE EFFECTIVE DATE: July 1, 2013.

ESTIMATED CHARGE EXPIRATION DATE: December 1, 2017.

CLASS OF AIR CARRIERS NOT REQUIRED TO COLLECT PFC'S: All air taxi/commercial operators filing or requested to file FAA Form 1800-31.

DETERMINATION: Approved. Based on information contained in the public agency's application, the FAA has determined that the approved class accounts for less than 1 percent of the total annual enplanements at Shenandoah Valley Regional Airport.

BRIEF DESCRIPTION OF PROJECTS APPROVED FOR COLLECTION AND USE:

Air carrier and general aviation apron rehabilitation—design.

Air carrier and general aviation apron rehabilitation—design reimbursement.

Air carrier and general aviation apron rehabilitation—construction.

Rehabilitate and expand auto parking lot—design.

Airfield lighting control—design.

Aircraft rescue and firefighting gear.

Air carrier roof rehabilitation—phase 1.

Rehabilitation and expand auto parking lot—construction.

Air carrier roof rehabilitation—phase 2 (skylights).

DECISION DATE: February 26, 2013.

FOR FURTHER INFORMATION CONTACT: Jeffrey Breeden, Washington Airports District Office, (703) 661-1363.

PUBLIC AGENCY: Metropolitan Nashville Airport Authority, Nashville, Tennessee.

APPLICATION NUMBER: 13-18-C-00-BNA.

APPLICATION TYPE: Impose and use a PFC.

PFC LEVEL: $4.50.

TOTAL PFC REVENUE APPROVED IN THIS DECISION: $1,975,000.

EARLIEST CHARGE EFFECTIVE DATE: June 1, 2017.

ESTIMATED CHARGE EXPIRATION DATE: August 1, 2017.

CLASS OF AIR CARRIERS NOT REQUIRED TO COLLECT PFC'S: Air carriers with enplaned passengers using air taxi/commercial operators operating at Nashville International Airport (BNA) that: (1) Have less than one percent of passengers boardings; or (2) have less than 25,000 enplaned passengers in calendar year 2011; or (3) provide unscheduled service at BNA.

DETERMINATION: Disapproved. Based on information contained in the public agency's application, the FAA has determined that the proposed class accounts for more than 1 percent of the total annual enplanements at BNA.

BRIEF DESCRIPTION OF PROJECT APPROVED FOR COLLECTION AND USE AT A $4.50 PFC LEVEL: Reconstruct taxiways B and T3.

BRIEF DESCRIPTION OF PROJECT APPROVED FOR COLLECTION AND USE AT A $3.00 PFC LEVEL: Outbound baggage and check-in counter replacement.

BRIEF DESCRIPTION OF WITHDRAWN PROJECT: Improve storm water collection and treatment system.

DATE OF WITHDRAWAL: December 12, 2012.

DECISION DATE: March 6, 2013.

FOR FURTHER INFORMATION CONTACT: Cynthia Wills, Memphis Airports District Office, (901) 322-8190.

PUBLIC AGENCY: Tri-Cities Airport Commission, Blountville, Tennessee.

APPLICATION NUMBER: 13-05-C-00-TRI.

APPLICATION TYPE: Impose and use a PFC.

PFC LEVEL: $4.50.

TOTAL PFC REVENUE APPROVED IN THIS DECISION: $892,216.

EARLIEST CHARGE EFFECTIVE DATE: January 1, 2015.

ESTIMATED CHARGE EXPIRATION DATE: February 1, 2016.

CLASS OF AIR CARRIERS NOT REQUIRED TO COLLECT PFC'S: Non-scheduled/on-demand air taxi operators filing FAA Form 1800-31 and operating at Tri-Cities Regional Airport (TRI).

DETERMINATION: Approved. Based on information contained in the public agency's application, the FAA has determined that the approved class accounts for less than 1 percent of the total annual enplanements at TRI.

BRIEF DESCRIPTION OF PROJECTS APPROVED FOR COLLECTION AND USE:

Runway 27 runway safety area displaced threshold.

Aircraft rescue and firefighting equipment replacement.

Terminal ramp access control improvements.

Runway 27 runway safety area property acquisition.

Runway 5/23 pavement rehabilitation.

PFC administrative costs.

DECISION DATE: March 8, 2013.

FOR FURTHER INFORMATION CONTACT: Cynthia Wills, Memphis Airports District Office, (901) 322-8190.

PUBLIC AGENCY: Palm Beach County Department of Airports, West Palm Beach, Florida.

APPLICATION NUMBER: 13-14-U-00-PBI.

APPLICATION TYPE: Use PFC revenue.

PFC LEVEL: $4.50.

TOTAL PFC REVENUE APPROVED FOR USE IN THIS DECISION: $1,300,000.

CHARGE EFFECTIVE DATE: April 1, 2010.

CHARGE EXPIRATION DATE: October 1, 2016.

CLASS OF AIR CARRIERS NOT REQUIRED TO COLLECT PFC'S: No change from previous decision.

BRIEF DESCRIPTION OF PROJECT APPROVED FOR USE: North Palm Beach County General Aviation Airport wetland mitigation credits.

DECISION DATE: March 20, 2013.

FOR FURTHER INFORMATION CONTACT: Susan Moore, Orlando Airports District Office, (407) 812-6331.

Amendments to PFC Approvals
Amendment No., city, state | Amendment approved date | Original approved net PFC revenue | Amended approved net PFC revenue | Original estimated charge exp. date | Amended estimated charge exp. date
13-18-C-01-BNA, Nashville, TN | 03/11/13 | $1,975,000 | $1,975,000 | 08/01/17 | 08/01/17
09-15-C-01-MKE, Milwaukee, WI | 03/13/13 | 25,068,451 | 29,166,661 | 07/01/22 | 09/01/22
09-06-C-01-PBG, Plattsburg, NY | 03/21/13 | 732,355 | 725,923 | 12/01/12 | 12/01/12

Issued in Washington, DC, on September 11, 2013.
Joe Hebert,
Manager, Financial Analysis and Passenger Facility Charge Branch.

[FR Doc. 2013-22814 Filed 9-18-13; 8:45 am]

BILLING CODE 4910-13-P